Proclamation 8643 of March 31, 2011

National Sexual Assault Awareness and Prevention Month, 2011

By the President of the United States of America

A Proclamation

Our Nation must continue to confront rape and other forms of sexual violence as a deplorable crime. Too many victims suffer unaided, and too many offenders elude justice. As we mark National Sexual Assault Awareness and Prevention Month, we recommit to building a society where no woman, man, or child endures the fear of assault or the pain of an attack on their physical well-being and basic human dignity.

Despite reforms to our legal system, sexual violence remains pervasive and largely misunderstood. Nearly one in six American women will experience an attempted or completed rape at some point in her life, and for some groups, rates of sexual violence are even higher. Almost one in three American Indian and Alaska Native women will be sexually assaulted. Young women ages 16 to 24 are at greatest risk, and an alarming number of young women are sexually assaulted while in college. Too many men and boys are also affected. With each new victim and each person still suffering from an attack, we are called with renewed purpose to respond to and rid our Nation of all forms of sexual violence.

Sexual assault is considered to be the most underreported violent crime in America, and criminal justice responses vary widely across our country. Some communities have developed highly trained, coordinated teams who understand the nature of sexual assault and can respond with compassionate understanding. In other places, victims hesitate to report these crimes because they fear the criminal justice system will respond with skepticism or fail to bring the perpetrator to justice. We must ensure our police, prosecutors, and courts treat victims with the seriousness and respect they need and deserve. We must do more to provide services that help victims recover from the trauma of sexual assault. And ultimately, we must prevent sexual assault before it happens.

Under Vice President Joe Biden’s leadership, my Administration is committed to engaging a broad spectrum of Federal agencies and community partners to prevent sexual assault, support victims, and hold offenders accountable. The Department of Justice’s Office on Violence Against Women is leading the Sexual Assault Demonstration Initiative to improve the way sexual assault survivors are served. The Centers for Disease Control and Prevention is funding innovative prevention campaigns that engage bystanders in reducing sexual assault, and the Department of Education is working to combat sexual violence at schools and universities. We will continue to support new approaches that show promise in changing cultural attitudes toward sexual violence and preventing these crimes.

Each victim of sexual assault represents a sister or a daughter, a nephew or a friend. We must break the silence so no victim anguishes without resources or aid in their time of greatest need. We must continue to reinforce that America will not tolerate sexual violence within our borders. Likewise, we will partner with countries across the globe as we work toward a common vision of a world free from the threat of sexual violence, including as a tool of conflict. Working together, we can reduce the incidence of sexual assault and heal lives that have already been devastated by this terrible crime.

NOW, THEREFORE, I, BARACK OBAMA, President of the United States of America, by virtue of the authority vested in me by the Constitution and the laws of the United States, do hereby proclaim April 2011 as National Sexual Assault Awareness and Prevention Month. I urge all Americans to support victims and work together to prevent these crimes in their communities.

IN WITNESS WHEREOF, I have hereunto set my hand this thirty-first day of March, in the year of our Lord two thousand eleven, and of the Independence of the United States of America the two hundred and thirty-fifth.

[FR Doc. 2011-8139

Filed 4-4-11; 8:45 am]

Billing code 3195-W1-P